DEPARTMENT OF TRANSPORTATION

Pipeline and Hazardous Materials Safety Administration

Delayed Applications

AGENCY: Office of Hazardous Materials Safety, Pipeline and Hazardous Materials Safety Administration (PHMSA), DOT.

ACTION: List of application delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on December 8, 2014.
Donald Burger,
Chief, General Approvals and Permits.

Application No. | Applicant | Reason for delay | Estimated date of completion
Modification to Special Permits
9847-M | FIBA Technologies, Inc. (FIBA), Millbury, MA | 4 | 12-31-2014
14617-M | Western International Gas & Cylinders, Inc., Bellville, TX | 4 | 01-31-2015
13359-M | BASF Corporation, Florham Park, NJ | 4 | 01-31-2015
11903-M | Comptank Corporation Bothwell, ON | 4 | 01-31-2015
15832-M | Baker Petrolite Corporation (BPC), Sugar Land, TX | 4 | 12-31-2014
New Special Permit Applications
15767-N | Union Pacific Railroad Company,Omaha, NE | 1 | 12-31-2014
16001-N | VELTEK, Malvern, PA | 4 | 12-31-2014
16039-N | UTLX Manufacturing LLC, Alexandria, LA | 4 | 12-31-2014
16061-N | Battery Solutions, LLC, Howell, MI | 4 | 12-31-2014
16137-N | Diversified Laboratory Repair, Gaithersburg, MD | 4 | 12-31-2014
16118-N | Toyota Motor Sales, U.S.A., Inc., Torrance, CA | 4 | 01-31-2015
16155-N | B.J. Alan Company dba Phantom Fireworks, Canfield, OH | 4 | 12-31-2014
16121-N | U.S. Department of Defense (DOD), Scott AFB, IL | 4 | 01-31-2015
16154-N | Patriot Fireworks, LLC, Ann Arbor, MI | 4 | 12-31-2014
16181-N | Arc Process, Inc., Pflugerville, TX | 4 | 01-31-2015
15991-N | Dockweiler, Neustadt-Glewe, Germany | 4 | 12-31-2014
Renewal Special Permits Applications
11602-R | East Tennessee Iron & Metal, Inc., Rogersville, TN | 4 | 12-31-2014
11860-R | GATX Corporation, Chicago, IL | 4 | 12-31-2014
15580-R | Wisconsin Central Ltd., Homewood, IL | 4 | 12-31-2014
15458-R | Southern States LLC, Hampton, GA | 4 | 01-31-2015

[FR Doc. 2014-30557 Filed 12-31-14; 8:45 am]

BILLING CODE 4910-60-M